NUCLEAR REGULATORY COMMISSION

[Docket No. 50-305; NRC-2013-0028]

Kewaunee Power Station; Application for Amendment to Facility Operating License

AGENCY: Nuclear Regulatory Commission.

ACTION: License amendment application; withdrawal.

ADDRESSES: Please refer to Docket ID NRC-2013-0028 when contacting the NRC about the availability of information regarding this document. You may access information related to this document, which the NRC possesses and are publicly available, using any of the following methods:

• Federal Rulemaking Web site: Go to http://www.regulations.gov and search for Docket ID NRC-2013-0028. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Karl Feintuch, Project Manager, Office of Nuclear Reactor Regulation, U.S. Nuclear Regulatory Commission, Washington, DC 20555; telephone: 301-415-3079; email: karl.feintuch@nrc.gov.

SUPPLEMENTARY INFORMATION: The U.S. Nuclear Regulatory Commission (NRC) has granted the request of Dominion Energy Kewaunee, LLC (DEK, the licensee) to withdraw its July 30, 2012, application (ADAMS Accession No. ML12219A070) for proposed amendment to Renewed Facility Operating License No. DPR-43, for the Kewaunee Power Station (KPS), located in Wisconsin, Kewaunee County.

The proposed amendment would have revised the facility technical specifications pertaining to steam generator tube inspections and reporting as described in Technical Specification Task Force (TSTF)-510, Revision 2, “Revision to Steam Generator Program Inspection Frequencies and Tube Sample Selection.”

The Commission had previously issued a Notice of Consideration of Issuance of Amendment published in the Federal Register on October 16, 2012 (77 FR 63349). However, by letter dated November 27, 2012, the licensee withdrew the proposed change.

For further details with respect to this action, see the application for amendment dated July 30, 2012, and the licensee's letter dated November 27, 2012, which withdrew the application for license amendment (ADAMS Accession No. ML123380137).

Dated at Rockville, Maryland, this 31st day of January 2013.
For the Nuclear Regulatory Commission.
Karl D. Feintuch,
Project Manager, Plant Licensing Branch III-1, Division of Operating Reactor Licensing, Office of Nuclear Reactor Regulation.

[FR Doc. 2013-03037 Filed 2-8-13; 8:45 am]

BILLING CODE 7590-01-P